DEPARTMENT OF THE INTERIOR

Bureau of Land Management

[ID-420-2824-DD-FM04]

Notice of Availability of a Draft Environmental Impact Statement for the Eastside Township Fuels and Vegetation Project

AGENCY: Bureau of Land Management, Interior.

ACTION: Notice of availability.

SUMMARY: In accordance with the National Environmental Policy Act (NEPA) of 1969 and the Federal Land Policy and Management Act (FLPMA) of 1976, the BLM has prepared a Draft Environmental Impact Statement (DEIS) to analyze and undertake the Eastside Township Fuels and Vegetation Project, and by this notice is announcing the opening of the comment period.

DATES: Written comments on the Draft EIS will be accepted for 60 days following publication of the Environmental Protection Agency's Notice of Availability for this Draft EIS in the Federal Register. Future public meetings and any other public involvement activities will be announced at least 15 days in advance through public notices, local media news releases, and/or mailings, and on the BLM Web site (http://www.id.blm.gov/offices/cottonwood/index.htm).

Addresses/Comments: Written comments should be sent to Eastside Township Fuels and Vegetation Project Lead, BLM Cottonwood Field Office, 1 Butte Drive, Cottonwood, ID 83522; faxed to (208) 962-3275, or e-mailed to robbin_boyce@blm.gov.

FOR FURTHER INFORMATION CONTACT: For further information and/or to have your name added to our mailing list, contact Robbin Boyce at (208) 962-3594 or e-mail: robbin_boyce@blm.gov.

SUPPLEMENTARY INFORMATION: The project area is located in north central Idaho, near the southern part of the Idaho Panhandle in Idaho County, near the small, isolated town of Elk City. The Eastside Township Fuels and Vegetation Project (Eastside) project is located in the American River watershed, within the larger upper South Fork Clearwater River watershed. The project area, which encompasses approximately 3,300 acres, borders the town of Elk City and includes the surrounding wildland urban interface (WUI) areas. Actual BLM-administered lands to be treated total approximately 1,300.

This is a landscape level project developed to address the increasing fuel load resulting from the combined effects of long-term fire suppression and an ongoing mountain pine beetle epidemic in the Elk City area. The purpose of this project is to manage the fuels and vegetation conditions in the Elk City WUI area. The project objectives are:

• Reduce the risk of high intensity wildland fire to life, property and natural resources in the Elk City area;

• Reduce the likelihood of severe local fire effects by removing dead, dying, and downed trees that would otherwise result in high fuel loading;

• Manage forest stands to create conditions that will contribute to sustaining long-lived fire tolerant tree species by regenerating to western larch, Douglas-fir, and by retaining most Douglas-fir, western larch, and ponderosa pine;

• Create an upward trend in fish habitat condition; and

• Contribute to the economic and social well being of area users and local residents.

The Eastside project proposes to reduce existing and potential fuel loads through a combination of vegetation manipulation and fuels treatments while supporting a long term upward trend in fish habitat condition. Vegetation manipulation includes removing mainly dead and dying trees and selectively harvesting other trees in both lodgepole pine and mixed conifer stands. Fuels treatments include thinning, piling and burning, prescribed burning, and biomass utilization.

The DEIS analyzes four alternatives, including a no action alternative and the agency preferred alternative, Alternative B. These alternatives were developed using issues identified during the scoping process. Issues include hazardous fuels, watershed, fisheries, and road/trail access-transportation system. The preferred alternative proposes to treat approximately 1,300 acres requiring approximately 15.1 miles of temporary road construction. Upon completion of the project, including road decommissioning, there would be no net change of road density per square mile in the American River watershed and a decrease of 2.12 miles of permanent road in the project area.

The preferred alternative also proposes watershed improvement activities that would provide for an upward trend in aquatic habitat and water quality. These include riparian planting along 4.8 miles of the American River; decommissioning of 1.9 miles of existing road; constructing 0.57 miles of new permanent road along the American River; improving stream crossings (two ford closures, one ford hardening, and two ATV bridge replacements); reconnecting Queen Creek with the American River; converting 1.6 miles of road to ATV trail; and recontouring 1.2 miles of streambank along the American River.

The Nez Perce National Forest (NPNF) is a cooperating agency that has specific expertise or interest in the project. The BLM proposes to use and construct roads on the NPNF. The NPNF may authorize the use and construction of roads based on the analysis in this DEIS.

When submitting comments, your full name and address should be included. Comments, including names, street addresses, and other contact information of respondents, will be available for public review. Individual respondents may request confidentiality. If you wish to request that BLM consider withholding your name, street address and other contact information such as Internet address, fax or phone number from public review or from disclosure under the Freedom of Information Act, you must state this prominently at the beginning of your comment. The BLM will honor requests for confidentiality on a case-by-case basis to the extent allowed by law. The BLM will make available for public inspection in their entirety all submissions from organizations or businesses and from individuals identifying themselves as representatives or officials of organizations or businesses.

Copies of the DEIS will be sent to affected Federal, Tribal, State and local government agencies, and to interested publics, and will be available at the BLM Cottonwood Field Office. The supporting record for the analysis for the DEIS is available for inspection at the Cottonwood Field Office during normal business hours (7:45 a.m. to 4:30 p.m. Monday through Friday, except holidays).

Dated: April 25, 2006.
Greg M. Yuncevich,
Cottonwood Field Office Manager.

[FR Doc. E6-10784 Filed 7-10-06; 8:45 am]

BILLING CODE 4310-GG-P